DEPARTMENT OF COMMERCE

International Trade Administration

(A-549-812)

Furfuryl Alcohol from Thailand: Notice of Extension of Time Limit for Preliminary Results of the 2005-2006 Antidumping Administrative Review

AGENCY: Import Administration, International Trade Administration, Department of Commerce.

EFFECTIVE DATE: April 3, 2007.

FOR FURTHER INFORMATION CONTACT: Damian Felton or Brandon Farlander, AD/CVD Operations, Office 1, Import Administration, International Trade Administration, U.S. Department of Commerce, 14th Street and Constitution Avenue, NW, Washington, DC 20230; telephone: (202) 482-0133 and (202) 482-0182, respectively.

SUPPLEMENTARY INFORMATION:

Background

On August 30, 2006, the Department of Commerce (“the Department”) published a notice of initiation of administrative review of the antidumping duty order on furfuryl alcohol from Thailand covering the period July 1, 2005 through June 30, 2006. See Initiation of Antidumping and Countervailing Duty Administrative Reviews and Requests for Revocation in Part, 71 FR 51573 (August 30, 2006). However, since the initiation, the Department has revoked this order effective May 4, 2006. See Furfuryl Alcohol from Thailand; Final Results of the Second Sunset Review of the Antidumping Duty Order and Revocation of the Order, 72 FR 9729 (March 5, 2006). Therefore, the period of review is now July 1, 2005 through May 3, 2006.

The preliminary results for this review are currently due no later than April 2, 2006.

Extension of Time Limit for Preliminary Results

Section 751(a)(3)(A) of the Tariff Act of 1930, as amended (“the Act”), requires the Department to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

We determine that it is not practicable to complete the preliminary results of this review by the current deadline of April 2, 2007. As a result of the revocation of the order, the period of review changed. This requires the Department to consider a new universe of possible transactions for this administrative review. Consequently, we require additional time to issue and analyze supplemental questionnaires. Therefore, in accordance with section 751(a)(3)(A) of the Act and 19 CFR 351.213(h)(2), we are extending the time period for issuing the preliminary results of this review to July 31, 2007. The deadline for the final results of this administrative review continues to be 120 days after the publication of the preliminary results.

We are issuing and publishing this notice in accordance with sections 751(a)(1) and 777(i)(1) of the Act.

Dated: March 28, 2007.
Stephen J. Claeys,
Deputy Assistant Secretary for Import Administration.

[FR Doc. E7-6159 Filed 4-3-07; 8:45 am]

BILLING CODE 3510-DS-S